FEDERAL RESERVE SYSTEM

Mid-Tier Bank Holding Company To Conduct a Minority Stock Issuance

The bank holding company listed in this notice has applied to the Board for approval to conduct a minority stock issuance in accordance with the Board's regulations governing mutual holding companies.

The application listed below, as well as other related filings required by the Board, is available for immediate inspection at the Federal Reserve Bank indicated. The application will also be available for inspection at the offices of the Board of Governors. Interested persons may express their views in writing.

Unless otherwise noted, comments regarding each of these applications must be received at the Reserve Bank indicated or the offices of the Board of Governors not later than April 23, 2015.

A. Federal Reserve Bank of Boston (Prabal Chakrabarti, Senior Vice President) 600 Atlantic Avenue, Boston, Massachusetts 02210-2204:

1. Provident Bancorp and Provident Bancorp, Inc., both in Amesbury, Massachusetts; to conduct a minority stock issuance in accordance with the Board's Regulation MM. Provident Bancorp and Provident Bancorp, Inc. control Provident Bank.

Board of Governors of the Federal Reserve System, March 23, 2015.
Michael J. Lewandowski,
Associate Secretary of the Board.

[FR Doc. 2015-06924 Filed 3-25-15; 8:45 am]

BILLING CODE 6210-01-P